DEPARTMENT OF TRANSPORTATION

Federal Aviation Administration

14 CFR Part 39

[Docket No. FAA-2014-0124; Directorate Identifier 2012-NM-197-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A300 series airplanes. This proposed AD was prompted by an analysis of the impacts of extended service goal activities on Airbus Model A300 series airplanes. This proposed AD would require revising the maintenance program. We are proposing this AD to prevent failure of flight critical systems.

DATES: We must receive comments on this proposed AD by April 14, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

Examining the AD Docket

You may examine the AD docket on the Internet at http://www.regulations.gov by searching for and locating Docket No. FAA-2014-0124; or in person at the Docket Management Facility office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone (425) 227-2125; fax (425) 227-1149.

SUPPLEMENTARY INFORMATION:

Comments Invited

We invite you to send any written relevant data, views, or arguments about this proposed AD. Send your comments to an address listed under the ADDRESSES section. Include “Docket No. FAA-2014-0124; Directorate Identifier 2012-NM-197-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2012-0233, dated November 7, 2012 (referred to after this as the Mandatory Continuing Airworthiness Information, or “the MCAI”), to correct an unsafe condition for the specified products. The MCAI states:

The results of the Extended Service Goal (ESG) exercise for A300 series aeroplanes (75,000 flight hours (FH) or 48,000 flight cycles (FC), whichever occurs first) identified certain operational tests as Airworthiness Limitation Items (ALI), necessary to ensure the safety objectives for aeroplanes which have accumulated or exceeded 60,000 FH.

These ALI are not fully new, since all nine tasks derive from existing Maintenance Planning Document (MPD) tasks. Consequently, the intervals of those nine tasks can no longer be escalated or retained at an interval higher than that specified in this [EASA] AD for each task.

Failure to comply with these tasks within the established maximum intervals could be detrimental to the safety of the affected aeroplanes.

For the reasons described above, this [EASA] AD requires the implementation of nine specific operational ALI test for aeroplanes which have accumulated or exceeded 60,000 FH.

In addition, Airbus performed an analysis of the impacts of ESG activities on A300 series aeroplanes and, based on the results, this [EASA] AD publishes an operational life of 75,000 FH or 48,000 FC, whichever occurs first, applicable to A300 system installations.

You may examine the MCAI in the AD docket on the Internet at http://www.regulations.gov by searching for and locating it in Docket No. FAA-2014-0124.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 7 airplanes of U.S. registry.

We also estimate that it would take about 1 work-hour per product to comply with the basic requirements of this proposed AD. The average labor rate is $85 per work-hour. Required parts would cost about $0 per product. Based on these figures, we estimate the cost of this proposed AD on U.S. operators to be $595, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by adding the following new AD:

Airbus: Docket No. FAA-2014-0124; Directorate Identifier 2012-NM-197-AD.

(a) Comments Due Date

We must receive comments by April 14, 2014.

(b) Affected ADs

None.

(c) Applicability

This AD applies to Airbus Model A300 B2-1A, B2-1C, B2K-3C, B2-203, B4-2C, B4-103, and B4-203 airplanes, certificated in any category, all serial numbers.

(d) Subject

Air Transport Association (ATA) of America Code 05 Periodic Inspections; Code 22, Auto Flight; Code 27, Flight Controls.

(e) Reason

This AD was prompted by an analysis of the impacts of extended service goal activities on Airbus Model A300 series airplanes. We are issuing this AD to prevent failure of flight critical systems.

(f) Compliance

Comply with this AD within the compliance times specified, unless already done.

(g) Maintenance/Inspection Program Revision

Within 90 days after the effective date of this AD, revise the maintenance or inspection program, as applicable, to incorporate the information specified in Table 1 to paragraph (g) of this AD. The compliance time for doing the initial actions specified in Table 1 to paragraph (g) of this AD is before 60,000 total flight hours accumulated on the airplane, or within 90 days after the effective date of this AD, whichever occurs later.

Table 1 to Paragraph (g) of This AD: Intervals for New Airworthiness Limitation Items
Maintenance Planning Document Task No. | Task description | Interval (not to exceed) (flight hours) | Aircraft maintenance manual reference
273311 0503 1 | ARTIFICIAL FEEL-ELEVATOR—Operational test of pitch artificial feel by comparing qualitatively operating loads in high-speed and low-speed configurations (with each individual hydraulic system) | 2,500 | 273300/501.
273313 0503 1 | COMPUTER-ARTIFICIAL FEEL—Operational test of artificial feel “pitch feel” and “rudder travel” monitoring circuits (warning light test and indicating system test) | 3,500 | 272300/501 and 273300/501.
222100 0503 1 | YAW DAMPER—Operational test to verify correct operation of mechanical control between yaw damper system 2 and the rudder | 80 | 222100/501.
222600 0503 1 | YAW DAMPER—Operational test to verify correct operation of mechanical control between yaw damper system 2 and the rudder | 80 | 222600/501.
272411 0503 1 | SERVO CONTROL-RUDDER—Operational test of rudder servo controls (with individual hydraulic system) by moving right-hand (RH) rudder pedal full forward and visually observe that rudder moves to the right. Check that rudder travel is confirmed on the flight control position indicator. Release RH pedal. Repeat above test by moving left-hand rudder pedal. | 250 | 271400/501.
275400 0503 1 | FLAP ASYMMETRY—Operational test of flap asymmetry monitoring circuit (include solenoid operation) | 500 | 275400/501.
275400 0503 2 | FLAP PRESSURE-OFF BRAKE—Operational test of pressure-off brake | 1,000 | 275400/501.
278300 0503 1 | SLAT ASYMMETRY—Operational test of slat asymmetry monitoring circuit | 500 | 278300/501.
278300 0503 2 | SLAT PRESSURE-OFF BRAKE—Operational test of pressure-off brake | 1,000 | 278300/501.

(h) Airplane Airworthiness Limitation

As of the effective date of this AD, do not operate any airplane beyond 75,000 total flight hours or 48,000 total flight cycles, whichever occurs first.

(i) No Alternative Actions and Intervals

After accomplishing the revision required by paragraph (g) of this AD, no alternative actions (e.g., inspections) or intervals may be used unless the actions or intervals are approved as an alternative method of compliance in accordance with the procedures specified in paragraph (j)(1) of this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or the DAH with a State of Design Authority's design organization approval). For a repair method to be approved, the repair approval must specifically refer to this AD. You are required to ensure the product is airworthy before it is returned to service.

(k) Related Information

Refer to Mandatory Continuing Airworthiness Information (MCAI) European Aviation Safety Agency Airworthiness Directive 2012-0233, dated November 7, 2012, for related information. This MCAI may be found in the AD docket on the Internet at http://www.regulations.gov by searching for and locating it in Docket No. FAA-2014-0124.

Issued in Renton, Washington, on February 14, 2014.
Jeffrey E. Duven,
Manager, Transport Airplane Directorate, Aircraft Certification Service.

[FR Doc. 2014-04496 Filed 2-27-14; 8:45 am]

BILLING CODE 4910-13-P